ENVIRONMENTAL PROTECTION AGENCY

40 CFR Parts 52 and 81

[EPA-R07-OAR-2025-0693; FRL-12887-02-R7]

Air Plan Approval; State of Kansas; Attainment Redesignation for 2008 Lead NAAQS and Associated Maintenance Plan

AGENCY: Environmental Protection Agency (EPA).

ACTION: Final rule.

SUMMARY: The Environmental Protection Agency (EPA) is taking final action to approve the request from the State of Kansas (the State) to redesignate portions of Saline County, Salina, Kansas (Salina area) to attainment for the 2008 lead National Ambient Air Quality Standards (NAAQS). The EPA's approval of the redesignation request is based on the determination that the Salina area has met the criteria for redesignation to attainment set forth in the Clean Air Act (CAA), including the determination that the area has attained the standard. Additionally, the EPA is granting final approval of the State's plan for maintaining the 2008 lead NAAQS in the Salina area for ten years beyond redesignation.

DATES: This final rule is effective on December 18, 2025.

ADDRESSES: The EPA has established a docket for this action under Docket ID No. EPA-R07-OAR-2025-0693. All documents in the docket are listed on the https://www.regulations.gov website. Although listed in the index, some information is not publicly available, i.e., Confidential Business Information (CBI) or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: Jennifer Kissel, Environmental Protection Agency, Region 7 Office, Air and Radiation Division, 11201 Renner Boulevard, Lenexa, Kansas 66219; telephone number: (913) 551-7982; email address: kissel.jenny@epa.gov.

SUPPLEMENTARY INFORMATION: Throughout this document “we,” “us,” and “our” refer to the EPA.

Table of Contents

I. What is being addressed in this document?

II. Background

III. The EPA's Response to Comments

IV. Have the requirements for approval of a SIP revision been met?

V. What action is the EPA taking?

VI. Incorporation by Reference

VII. Statutory and Executive Order Reviews

I. What is being addressed in this document?

The EPA is granting final approval of the request submitted by the State of Kansas to redesignate the Saline County, Salina, Kansas nonattainment area to attainment for the 2008 lead NAAQS. On March 20, 2025 the State submitted a request for redesignation that demonstrates NAAQS attainment and an associated maintenance plan to ensure that the area continues to attain the standard. On August 7, 2025 the EPA published a Notice of Proposed Rulemaking (NPRM) which proposed to approve the redesignation request and associated maintenance plan (90 FR 38095).

As part of this action, the EPA is approving a revision to the Kansas SIP to incorporate Construction Permit #1690035, which was issued on December 27, 2018 (hereinafter referred to as the December 2018 permit) for the Stryten Salina, LLC facility (formerly known as Exide Technologies, hereinafter referred to as Stryten) which contains an updated control strategy to control lead emissions. The December 2018 permit was submitted by the State for incorporation into the SIP in 40 CFR 52.870(d). The December 2018 permit incorporates three permit modifications to the facility's construction permit that was originally issued August 18, 2014 (hereinafter referred to as the August 2014 Permit).

The basis for the EPA's final approval is that the area met the requirements of the CAA for approval as discussed below and in the NPRM.

II. Background

As described in the NPRM published on August 7, 2025, the EPA has determined that the area has met the criteria for section 107(d)(3)(E) of the CAA and that the State's maintenance plan will ensure that the area continues to attain the standard.

As discussed in the NPRM the Stryten lead acid battery manufacturing plant located in Salina, KS was the main source of lead emissions impacting the violating monitor. Stryten implemented contingency measures and additional control strategies made enforceable through modifications to the August 2014 permit, the most recent of which is the December 2018 permit.¹ The additional emission reduction measures in the December 2018 permit included better control device filtration efficiency and monitoring, expansion of negative pressure ventilation of all lead-emitting process areas, additional paving of plant property, and dust suppression on plant grounds and roadways using a water truck and vacuum street sweeper. See the State's maintenance plan and the December 2018 permit for more information on the updated control strategy.

¹ Modifications to Stryten's August 2014 construction permit were also issued on January 11, 2017 and June 23, 2017. The December 2018 permit modification incorporates and maintains requirements from the previous construction permits. The December 2018 permit modification is included in appendix A of the State's maintenance plan.

Following implementation of the additional emission reduction measures starting in 2017, ambient lead concentrations decreased in the area. Air quality monitoring data from 2017-2019, 2018-2020, and 2019-2021 show attainment of the 2008 lead NAAQS.

The public comment period on the EPA's proposed rule opened August 7, 2025, the date of its publication in the Federal Register, and closed on September 8, 2025. During this period, the EPA received comments from the State in an email from the Kansas Department of Health and Environment (KDHE) that is included in the docket of this action. Comments are addressed in section III.

III. The EPA's Response to Comments

Comment 1: KDHE requests that the EPA clarify that the State submitted its attainment plan for the Salina nonattainment area on February 3, 2015 as specified in 40 CFR 52.870(e)(43).

Response 1: The EPA agrees with this comment and clarifies that the attainment plan for the Salina nonattainment area was received by the EPA on February 25, 2015, as stated in 81 FR 47034 (July 20, 2016).

Comment 2: KDHE requests that the EPA reference KDHE's SIP-approved minor NSR regulatory program in its analysis of whether the area has met all redesignation requirements, specifically whether it has met all applicable requirements under CAA section 110 and part D.

Response 2: The EPA notes that the State's redesignation request and maintenance plan for the Salina nonattainment area included a discussion of the State's minor NSR regulatory program, codified at K.A.R. 28-19-300 through K.A.R. 28-19-304. The EPA further notes that for purposes of determining whether the State has met the applicable requirements of sections 107(d)(3)(E)(v), 110, and 172(c)(5) of the CAA, the EPA is not required to analyze whether the State has a SIP-approved minor NSR regulatory program. Therefore, no changes have been made in response to this comment.

Comment 3: KDHE stated that the source name was incorrect in the proposed amendment to 40 CFR part 52, subpart R, § 52.870(d)(6) table “EPA-APPROVED KANSAS SOURCE-SPECIFIC PERMITS”.

Response 3: The EPA agrees that the source name in the NPRM table was incorrect and has corrected the name of the source to “Stryten Salina LLC (formerly known as Exide)” in this final action.

Comment 4: KDHE requests that the EPA replace a sentence in the background section of the TSD that does not accurately describe the facility emission source.

Response 4: The EPA agrees that the TSD accompanying the NPRM incorrectly stated that “lead emissions result from breaking open used batteries, re-melting the lead, and reformulating new batteries.” Accordingly, the EPA updated the background section of the revised TSD to describe the lead emissions from the facility associated with battery production.

Comment 5: KDHE requests that the EPA correct a typographical error in a table that erroneously listed lead as SO2.

Response 5: The EPA corrected the typographical error in section VI., table 4 of the revised TSD to indicate the “Background Lead Concentration” used in Stryten and KDHE's modeling.

Comment 6: KDHE is requesting that the EPA include the volume source emission rates used in Stryten's October 2021 modeling in table 8 of the TSD.

Response 6: The EPA added language that includes and clarifies the different sets of volume source emission rates used in Stryten's October 2021 modeling and KDHE's supplemental modeling in section VI.D. and tables 4 and 8 of the revised TSD.

Comment 7: KDHE requests that EPA replace the UTM Easting value for the Schilling Elementary School in table 10b of the TSD.

Response 7: The EPA agrees and included the correct UTM Easting value for the Schilling Elementary School in section VI., table 10b of the revised TSD.

IV. Have the requirements for approval of a SIP revision been met?

The NPRM provides a detailed discussion of the requirements of CAA section 107(d)(3)(E) which identifies the five criteria that must be met before a nonattainment area may be redesignated to attainment and the EPA's analysis of how each requirement was met. Specifically, section 107(d)(3)(E) of the CAA allows for redesignation provided the following criteria are met: (1) The Administrator determines that the area has attained the applicable NAAQS; (2) the Administrator has fully approved the applicable implementation plan for the area under section 110(k); (3) the improvement in air quality is due to permanent and enforceable reductions in emissions resulting from implementation of the applicable SIP and applicable Federal air pollutant control regulations and other permanent and enforceable reductions; (4) the Administrator has fully approved a maintenance plan for the area as meeting the requirements of section 175A; and (5) the State containing such area has met all requirements applicable to the area under section 110 and part D of title I of the CAA. The EPA finds that the Salina area has met these criteria, and that the State's maintenance plan will ensure the Salina area continues to attain the standard.

The State's redesignation submission meets the public notice requirements for SIP submissions in accordance with 40 CFR 51.102. The submission also satisfies the completeness criteria of 40 CFR part 51, appendix V. The State provided public notice on this SIP revision from January 23, 2025, to February 24, 2025, and received no comments. In addition, as explained in this proposed action and in more detail in the TSD, the revision meets the substantive SIP requirements of the CAA, including section 110 and implementing regulations.

V. What action is the EPA taking?

The EPA is taking final action to approve the maintenance plan for the Salina nonattainment area into the Kansas SIP (as compliant with CAA section 175A). The maintenance plan demonstrates that the area will continue to maintain the 2008 lead NAAQS and includes contingency provisions to remedy any future violations of the 2008 lead NAAQS and procedures for evaluation of potential violations.

Additionally, the EPA is taking final action to determine that the Salina nonattainment area has met the criteria under CAA section 107(d)(3)(E) for redesignation from nonattainment to attainment for the 2008 lead NAAQS. On this basis, the EPA is approving the State's redesignation request for the area and changing the legal designation of the portion of Saline County designated nonattainment at 40 CFR part 81 to attainment for the 2008 lead NAAQS.

The EPA is also approving and incorporating by reference 40 CFR 52.870(d) EPA-Approved Kansas Source-Specific Permits the following source-specific permit:

• Stryten Salina LLC #1690035, state effective date December 27, 2018.

VI. Incorporation by Reference

In this document, the EPA is finalizing regulatory text that includes incorporation by reference. In accordance with requirements of 1 CFR 51.5, the EPA is finalizing the incorporation by reference of the Kansas permit #1690035 issued December 27, 2018 discussed in sections I., II. and V. of this preamble and as set forth below in the proposed amendments to 40 CFR part 52. The EPA has made, and will continue to make, these materials generally available through https://www.regulations.gov and at the EPA Region 7 Office (please contact the person identified in the FOR FURTHER INFORMATION CONTACT section of this preamble for more information).

Therefore, these materials have been approved by the EPA for inclusion in the SIP, have been incorporated by reference by the EPA into that plan, are fully federally enforceable under sections 110 and 113 of the CAA as of the effective date of the final rulemaking of the EPA's approval, and will be incorporated by reference in the next update to the SIP compilation.²

² 62 FR 27968, May 22, 1997.

VII. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and the EPA will submit a rule report to each House of the Congress and to the Comptroller General of the United States. This action is not a “major rule” as defined by 5 U.S.C. 804(2).

Under section 307(b)(1) of the CAA, petitions for judicial review of this action must be filed in the United States Court of Appeals for the appropriate circuit by January 20, 2026. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Intergovernmental relations, Lead, Reporting and recordkeeping requirements.

40 CFR Part 81

Environmental protection, Air pollution control.

Dated: October 23, 2025.
James Macy,
Regional Administrator, Region 7.

For the reasons stated in the preamble, the EPA amends 40 CFR parts 52 and 81 as set forth below:

PART 52—APPROVAL AND PROMULGATION OF IMPLEMENTATION PLANS

1. The authority citation for part 52 continues to read as follows:

Authority: 42 U.S.C. 7401 et seq.

Subpart R—Kansas

2. In § 52.870:

a. The table in paragraph (d) is amended by adding the entry “(6)” at the end of the table; and

b. The table in paragraph (e) is amended by adding the entry “(48)” at the end of the table.

The additions read as follows:

§ 52.870 Identification of plan.

* * * * *

(d) * * *

EPA-Approved Kansas Source-Specific Permits
Name of source | Permit or case No. | State effective date | EPA approval date | Explanation
* * * * * * *
(6) Stryten Salina LLC. (formerly known as Exide) | 1690035 | 12/27/2018 | 11/18/2025, 90 FR [insert Federal Register page where the document begins] |

(e) * * *

EPA-Approved Kansas Nonregulatory Provisions
Name of nonregulatory SIP provision | Applicable geographic or nonattainment area | State submittal date | EPA approval date | Explanation
* * * * * * *
(48) Lead Redesignation SIP and Maintenance Plan | Portions of Saline County, Salina, Kansas | 3/20/2025 | 11/18/2025, 90 FR [insert Federal Register page where the document begins] | [EPA-R07-OAR-2025-0693; FRL-12887-02-R7].

PART 81—DESIGNATION OF AREAS FOR AIR QUALITY PLANNING PURPOSES

3. The authority citation for part 81 continues to read as follows:

Authority: 42 U.S.C. 7401, et seq.

Subpart C—Section 107 Attainment Status Designations

4. In § 81.317, the table entitled “Kansas—2008 Lead NAAQS” is amended by revising the entry “Saline County, KS:” to read as follows:

§ 81.317 Kansas.

* * * * *

Kansas-2008 Lead NAAQS
Designated area | Designation for the 2008 NAAQS ᵃ: Date ¹ | Designation for the 2008 NAAQS ᵃ: Type
Saline County, KS: | 11/18/2025, 90 FR [insert Federal Register page where the document begins] | Attainment.
Saline County (part) |  |
Area bounded by Schilling Rd. on the north, ¼ mile west of S. Ohio St. on the east, Water Well Rd. on the south, and 9th Street on the west |  |
* * * * * * *
ᵃ Includes Indian Country located in each county or area, except as otherwise specified.
¹ December 31, 2011 unless otherwise noted.

[FR Doc. 2025-20200 Filed 11-17-25; 8:45 am]

BILLING CODE 6560-50-P